ENVIRONMENTAL PROTECTION AGENCY

[FRL-8522-7]

Local Government Advisory Committee Notice of Charter Renewal

AGENCY: Environmental Protection Agency (EPA).

ACTION: Notice of Charter Renewal.

The Charter for the Environmental Protection Agency's Local Government Advisory Committee (LGAC) will be renewed for an additional two-year period, as a necessary committee which is in the public interest, in accordance with the provisions of the Federal Advisory Committee Act (FACA), 5 U.S.C. App. 2 Section 9(c). The purpose of the LGAC is to provide advice and recommendations to EPA's Administrator on ways to improve its partnership with Local Governments and provide more efficient and effective environmental protection.

It is determined that the LGAC is in the public interest in connection with the performance of duties imposed on the Agency by law.

Inquiries may be directed to Frances Eargle, Designated Federal Officer, LGAC, U.S. EPA (mail code 1301A), 1200 Pennsylvania Avenue, NW., Washington, DC 20460, or eargle.frances@epa.gov.

Dated: January 20, 2008
Christopher P. Bliley,
Associate Administrator for Congressional and Intergovernmental Relations.

[FR Doc. 08-402 Filed 1-29-08; 8:45 am]

BILLING CODE 6560-60-M